DEPARTMENT OF COMMERCE

International Trade Administration

[A-583-830]

Stainless Steel Plate in Coils from Taiwan: Extension of Time Limit for the Preliminary Results of the Antidumping Duty Administrative Review

AGENCY: Import Administration, International Trade Administration, Department of Commerce.

ACTION: Notice of Extension of Time Limit for the Preliminary Results of Antidumping Duty Administrative Review.

EFFECTIVE DATE: February 5, 2003.

FOR FURTHER INFORMATION CONTACT: Catherine Bertrand, AD/CVD Enforcement, Group III, Office 9, Import Administration, International Trade Administration, U.S. Department of Commerce, 14th Street and Constitution Avenue, NW, Washington DC 20230; telephone: (202) 482-3207.

SUPPLEMENTARY INFORMATION:

Background

On May 6, 2002, the Department of Commerce (“Department”) published a notice of opportunity to request an administrative review of the Antidumping Duty Order on Stainless Steel Plate in Coils from Taiwan for the period May 1, 2001 through April 30, 2002. See Notice of Opportunity to Request Administrative Review of Antidumping or Countervailing Duty Order, Finding, or Suspended Investigation, 67 FR 30356 (May 6, 2002). On June 25, 2002, in accordance with section 751(a) of the Tariff Act of 1930, as amended (“the Act”), the Department published in the Federal Register a notice of initiation of this antidumping duty administrative review of sales by Yieh United Steel Corporation (“YUSCO”) and Ta Chen Stainless Pipe Company, Ltd. (“Ta Chen”) for the period May 1, 2001 through April 30, 2002. See Notice of Initiation of Antidumping and Countervailing Duty Administrative Reviews and Request for Revocation In Part, 67 FR 42753 (June 25, 2002). The preliminary results are currently due no later than January 31, 2003.

Extension of Time Limit for Preliminary Results

The Department conducted a customs inquiry in this case. As a result of this preliminary communication with the Customs Service, the Department was recently made aware of certain information that was not previously on the record. The Department needs time to analyze this information and solicit additional information from the parties. See Department's January 15, 2003 letter to YUSCO. Therefore, it is not practicable to complete this review within the initial time limits mandated by section 751(a)(3)(A) of the Act, and we are extending the due date for the preliminary results by 60 days until April 1, 2003. The final results continue to be due 120 days after the publication of the preliminary results.

Dated: January 30, 2003.
Joseph A. Spetrini,
Deputy Assistant Secretary for Import Administration, Group III.

[FR Doc. 03-2792 Filed 2-4-03; 8:45 am]

BILLING CODE 3510-DS-S